DEPARTMENT OF JUSTICE

Notice of Lodging of Proposed Consent Decree Under the Clean Water Act

On August 30, 2021, the Department of Justice filed a complaint and lodged a proposed consent decree with the United States District Court for the District of Montana in the lawsuit entitled United States v. Northern Cheyenne Utilities Commission, Civil Action No. 1:21-cv-00094-SPW-TJC.

The United States filed this lawsuit against the Northern Cheyenne Utilities Commission (“Defendant”) for violations of the Clean Water Act at the Lame Deer Wastewater Treatment Facility (“Facility”). The Facility is operated and maintained by the Defendant and located in Lame Deer, Montana, within the exterior boundaries of the Northern Cheyenne Indian Reservation. The Complaint seeks injunctive relief and civil penalties for the following violations of the Clean Water Act: Unpermitted discharge of pollutants from the Facility, noncompliance with the terms and conditions of the National Pollutant Discharge Elimination System (“NPDES”) permit issued to the Facility, and Defendant's failure to comply with the requirements of an administrative Order for Compliance issued to Defendant by the United States Environmental Protection Agency on July 7, 2015 (Docket No. CWA-08-2015-0020).

Under the proposed Consent Decree, Defendant will perform injunctive relief, including: Completion of certain Facility related physical improvements; the acquisition and maintenance of equipment spare parts; development of a Plan of Operations to operate and maintain the Facility in a manner consistent with its NPDES permit and the Clean Water Act; training and hiring of certified waste operators; development of an annual Facility budget; completion of an interim service rates study and implementation of service rates based on the study; development of an updated billing and collection policy; and development of a communication and notification plan to improve coordination on issues related to wastewater collection and treatment services provided by Defendant. In addition, Defendant will pay a $1,500.00 civil penalty, based on certain ability to pay limitations. The Consent Decree resolves the civil claims alleged by the United States in the Complaint.

The publication of this notice opens a period for public comment on the Consent Decree. Comments on the Consent Decree should be addressed to the Assistant Attorney General, Environment and Natural Resources Division, and should refer to United States v. Northern Cheyenne Utilities Commission, D.J. Ref. No. 90-5-1-1-11646. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $53.50 (25 cents per page reproduction cost) payable to the United States Treasury. For a paper copy without the appendices and signature pages, the cost is $12.50.

Jeffrey Sands,
Assistant Section Chief, Environmental Enforcement Section, Environment and Natural Resources Division.

[FR Doc. 2021-19569 Filed 9-9-21; 8:45 am]

BILLING CODE 4410-15-P